DEPARTMENT OF COMMERCE

National Oceanic and Atmospheric Administration

50 CFR Part 223

[Docket No. 010521133-1307-02; I.D. No. 050101B]

Endangered and Threatened Species; Final Rule Governing Take of Four Threatened Evolutionarily Significant Units (ESUs) of West Coast Salmonids

Correction

In rule document 02-440 beginning on page 1116 in the issue of Wednesday, January 9, 2002 make the following correction:

Appendix A to §227.203 [Corrected]

On page 1133, in the third column, in appendix A, after the fourth paragraph, paragraph 3. was duplicated, the fifth paragraph should read “4. Viable Salmonid Populations and the Recovery of Evolutionarily Significant Units. (June 2000).”.

[FR Doc. C2-440 Filed 11-8-02; 8:45 am]

BILLING CODE 1505-01-D

ENVIRONMENTAL PROTECTION AGENCY

[FRL-7403-8]

Preliminary Administrative Determination Document on the Question of Whether Ferric Ferrocyanide is One of the “Cyanides” Within the Meaning of the List of Toxic Pollutants Under the Clean Water Act

Correction

In notice document 02-28006 appearing on page 67183 in the issue of Monday, November 4, 2002 make the following correction:

On page 67183, in the third column, under the heading DATES, in the second line, “December 4, 2002” should read “January 3, 2003”.

[FR Doc. C2-28006 Filed 11-8-02; 8:45 am]

BILLING CODE 1505-01-D

DEPARTMENT OF TRANSPORTATION

Federal Aviation Administration

14 CFR Part 39

[Docket No. 99-CE-71-AD; Amendment 39-12925; AD 2002-22-01]

RIN 2120-AA64

Airworthiness Directives; MORAVAN a.s. Models Z-143L and Z-242L Airplanes

Correction

In rule document 02-27201 beginning on page 66540 in the issue of Friday, November 1, 2002 make the following correction:

§39.13 [Corrected]

On page 66541, in the third column, in §39.13, in the first line, “2002-22 01” should read “2002-22-01”.

[FR Doc. C2-27201 Filed 11-8-02; 8:45 am]

BILLING CODE 1505-01-D